DEPARTMENT OF COMMERCE

International Trade Administration

[A-489-807]

Certain Steel Concrete Reinforcing Bars From Turkey; Final Results of New Shipper Review

AGENCY: Import Administration, International Trade Administration, Department of Commerce.

SUMMARY: On September 10, 2007, the Department of Commerce (the Department) published the preliminary results of the new shipper review of the antidumping duty order on certain steel concrete reinforcing bars (rebar) from Turkey. This review covers one producer/exporter of the subject merchandise to the United States, Ege Celik Endustrisi ve Ticaret A.S./Ege Dis Ticaret A.S. (Ege Celik). The period of review (POR) is April 1, 2006, through September 30, 2006.

Based on our analysis of the comments received, we have made no changes to the margin calculations. Therefore, the final results do not differ from the preliminary results. The final weighted-average dumping margin for Ege Celik is listed below in the section entitled “Final Results of Review.”

EFFECTIVE DATE: November 6, 2007.

FOR FURTHER INFORMATION CONTACT: Irina Itkin, AD/CVD Operations, Office 2, Import Administration, International Trade Administration, U.S. Department of Commerce, 14th Street and Constitution Avenue, NW, Washington, DC, 20230; telephone (202) 482-0656.

SUPPLEMENTARY INFORMATION:

Background

This new shipper review covers one producer/exporter, Ege Celik. On September 10, 2007, the Department published in the Federal Register the preliminary results of the new shipper review of the antidumping duty order on rebar from Turkey. See Notice of Preliminary Results of New Shipper Review of the Antidumping Duty Order on Certain Steel Concrete Reinforcing Bars from Turkey, 72 FR 51598 (Sep. 10, 2007) (Preliminary Results).

We invited parties to comment on our preliminary results of this review. In October 2007, we received a case brief with respect to the preliminary results from the domestic industry (i.e., Gerdau AmeriSteel Corporation, Commercial Metals Company (SMI Steel Group), and Nucor Corporation), and we received a rebuttal brief with respect to the preliminary results from Ege Celik.

Scope of the Order

The product covered by this order is all stock deformed steel concrete reinforcing bars sold in straight lengths and coils. This includes all hot-rolled deformed rebar rolled from billet steel, rail steel, axle steel, or low-alloy steel. It excludes (i) plain round rebar, (ii) rebar that a processor has further worked or fabricated, and (iii) all coated rebar. Deformed rebar is currently classifiable in the Harmonized Tariff Schedule of the United States (HTSUS) under item numbers 7213.10.000 and 7214.20.000. The HTSUS subheadings are provided for convenience and customs purposes. The written description of the scope of this proceeding is dispositive.

Period of Review

The POR is April 1, 2006, through September 30, 2006.

Bona Fide Sale Analysis

In the preliminary results, we found that Ege Celik's reported U.S. sale during the POR was a bona fide sale, as required by 19 CFR 351.214(b)(2)(iv)(c), based on the totality of the facts on the record. See the Memorandum to James Maeder from Irina Itkin entitled, “Analysis of Ege Celik Endustrisi Sanayi ve Ticaret A.S./Ege Dis Ticaret A.S.'s Bona Fides As A New Shipper in the New Shipper Review of Certain Steel Concrete Reinforcing Bars from Turkey,” dated September 4, 2007, for further discussion of our price and quantity analysis.

For the final results, the Department continues to find that Ege Celik's sole U.S. sale during the POR was a bona fide commercial transaction.

Turkish Government Competition Board's Report

In this review, the domestic interested parties submitted a report by the Turkish Government Competition Board (the Competition Board) regarding the Turkish steel industry. The domestic interested parties argued that this report demonstrates that Ege Celik, as well as the vast majority of the Turkish rebar industry, engaged in anti-competitive behavior prior to and during the POR by colluding with other producers to manipulate home market and export prices and to suppress costs. As noted in our preliminary findings with respect to the Competition Board's report, we did not rely on the evidence or conclusions in the Competition Board's report as the basis for any findings in this review. Rather, we investigated whether the facts during the POR would cause us to dismiss reported home market prices or costs within the confines of U.S. antidumping duty law and regulations. See the August 31, 2007, Memorandum from Shawn Thompson, Irina Itkin, and Brianne Riker to David M. Spooner, entitled “Preliminary Finding on Issues Related to the Turkish Government Competition Board's Reports in Certain Steel Concrete Reinforcing Bars from Turkey.” For purposes of the final results, the domestic industry neither provided any new arguments with respect to the information on the record pertaining to the Competition Board's report or the respondents' reported costs, prices, and affiliations that were not already addressed in our preliminary findings, nor commented on specific sections of our preliminary findings with which it disagreed. Rather, the domestic industry merely stated its opposition to our preliminary findings and reiterated its previous arguments. Therefore, we continue to find that: 1) there is no basis to find that Ege Celik is affiliated with any other Turkish rebar producers; 2) there is no basis to conclude that the sales and cost data in this review are distorted by non-market considerations and, thus, it is appropriate to rely on this data for purposes of the final results; and 3) Ege Celik is entitled to a new shipper review because it has met the requirements set forth under 19 CFR 351.214(b). For further discussion, see the Issues and Decision Memorandum (Decision Memo) at Comment 1.

Cost of Production

As discussed in the Preliminary Results, we conducted an investigation to determine whether Ege Celik made home market sales of the foreign like product during the POR at prices below its cost of production (COP) within the meaning of section 773(b)(1) of the Tariff Act of 1930, as amended (the Act). We performed the cost test for these final results following the same methodology as in the Preliminary Results.

We found 20 percent or more of Ege Celik's sales of a given product during the reporting period were at prices less than the weighted-average COP for this period. Thus, we determined that these below-cost sales were made in “substantial quantities” within an extended period of time and at prices which did not permit the recovery of all costs within a reasonable period of time in the normal course of trade. See sections 773(b)(2)(B) - (D) of the Act.

Therefore, for purposes of these final results, we found that Ege Celik made below-cost sales not in the ordinary course of trade. Consequently, we disregarded these sales and used the remaining sales as the basis for determining normal value pursuant to section 773(b)(1) of the Act.

Analysis of Comments Received

All issues raised in the case briefs by parties to these reviews, and to which we have responded, are listed in the Appendix to this notice and addressed in the Decision Memo, which is adopted by this notice. Parties can find a complete discussion of all issues raised in these reviews and the corresponding recommendations in this public memorandum, which is on file in the Central Records Unit, room B-099, of the main Department building.

In addition, a complete version of the Decision Memo can be accessed directly on the Web at http://ia.ita.doc.gov/frn/. The paper copy and electronic version of the Decision Memo are identical in content.

Changes Since the Preliminary Results

Based on our analysis of comments received, we have made no changes to the margin calculations. Because the margin calculations for Ege Celik have not changed from the preliminary results, the preliminary calculations placed on the record of this review are adopted as the final margin calculations.

Final Results of Review

We determine that the following weighted-average margin percentage exists for the period April 1, 2006, through September 30, 2006:

Manufacturer/Producer/Exporter | Margin Percentage
Ege Celik Endustrisi ve Ticaret A.S./Ege Dis Ticaret A.S. | 0.00

Assessment

The Department shall determine, and U.S. Customs and Border Protection (CBP) shall assess, antidumping duties on all appropriate entries, in accordance with 19 CFR 351.212. Pursuant to 19 CFR 351.212(b)(1), because we have the reported entered value of Ege Celik's U.S. sale, we have calculated an importer-specific assessment rate based on the ratio of the total amount of antidumping duties calculated for the examined sale to the total entered value of that sale. We will instruct CBP to assess antidumping duties on all appropriate entries covered by this review if the importer-specific assessment rate calculated in the final results of this review is above de minimis (i.e., at or above 0.50 percent). Pursuant to 19 CFR 351.106(c)(2), we will instruct CBP to liquidate without regard to antidumping duties any entries for which the assessment rate is de minimis (i.e., less than 0.50 percent). See 19 CFR 351.106(c)(1). The Department intends to issue assessment instructions to CBP 15 days after the date of publication of these final results of review.

The Department clarified its “automatic assessment” regulation on May 6, 2003. See Antidumping and Countervailing Duty Proceedings: Assessment of Antidumping Duties, 68 FR 23954 (May 6, 2003). This clarification will apply to entries of subject merchandise during the POR produced by Ege Celik for which it did not know its merchandise was destined for the United States. In such instances, we will instruct CBP to liquidate unreviewed entries at the All-Others rate if there is no rate for the intermediate company(ies) involved in the transaction.

Cash Deposit Requirements

Further, the following deposit requirements will be effective for all shipments of rebar from Turkey entered, or withdrawn from warehouse, for consumption on or after the publication date of the final results of this administrative review, as provided for by section 751(a)(2)(C) of the Act: 1) the cash deposit rate for merchandise produced by Ege Celik Endustrisi ve Ticaret A.S. and exported by Ege Dis Ticaret A.S. will be the rate shown above, except if the rate is less than 0.50 percent, de minimis within the meaning of 19 CFR 351.106(c)(1), the cash deposit will be zero; 2) for previously investigated companies not listed above, the cash deposit rate will continue to be the company-specific rate published for the most recent period; 3) if the exporter is not a firm covered in this review, or the less-than-fair-value (LTFV) investigation, but the manufacturer is, the cash deposit rate will be the rate established for the most recent period for the manufacturer of the merchandise; and 4) the cash deposit rate for all other manufacturers or exporters will continue to be 16.06 percent, the All Others rate established in the LTFV investigation. These deposit requirements, when imposed, shall remain in effect until further notice.

Notification to Importers

This notice serves as a preliminary reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

This new shipper review is issued and published in accordance with sections 751(a)(2)(B)(iv) and 777(i)(1) of the Act, as well as 19 CFR 351.214(i).

Dated: October 31, 2007.
Stephen J. Claeys,
Acting Assistant Secretary for Import Administration.

Appendix - Issues in Decision Memorandum

General Issues

Issues Related to the Turkish Government Competition Board's Report

[FR Doc. E7-21805 Filed 11-5-07; 8:45 am]

BILLING CODE 3510-DS-S